DEPARTMENT OF COMMERCE

National Oceanic and Atmospheric Administration

50 CFR Part 648

[I.D. 042307E]

Mid-Atlantic Fishery Management Council; Public Hearings

AGENCY: National Marine Fisheries Service (NMFS), National Oceanic and Atmospheric Administration (NOAA), Commerce.

ACTION: Notice of public hearings.

SUMMARY: The Mid-Atlantic Fishery Management Council (MAFMC) will hold hearings to allow for public input on Amendment 9 to the Fishery Management Plan for the Atlantic Mackerel, Squid, and Butterfish Fishery (FMP).

DATES: Written comments will be accepted until May 27, 2007. All meetings begin at 7 a.m. For specific dates and locations of the hearings see SUPPLEMENTARY INFORMATION.

ADDRESSES: Comments may be submitted through any of the following methods:

• Mail: Daniel T. Furlong, Executive Director, Mid-Atlantic Fishery Management

Council, Room 2115 Federal Building, 300 South New Street, Dover, Delaware 19904.

• FAX: 302-674-5399.

• E-mail: info@mafmc.org. Please indicate the subject as SMB 9 Comments.

• Federal e-Rulemaking Portal: http://www.regulations.gov.

FOR FURTHER INFORMATION CONTACT: Daniel T. Furlong, Executive Director, Mid-Atlantic Fishery Management Council, Room 2115 Federal Building, 300 South New Street, Dover, Delaware 19904, 302-674-2331, ext. 19.

SUPPLEMENTARY INFORMATION:

Background

The purpose of the hearings is to receive public input on management actions under consideration in Amendment 9 to the Atlantic Mackerel, Squid, and Butterfish FMP. The proposed management actions could:

(1) Allow multi-year specifications for all four species managed through the FMP,

(2) Extend or eliminate the moratorium on entry into the directed Illex squid fishery,

(3) Revise the current overfishing definition for Loligo squid,

(4) Designate EFH for Loligo eggs,

(5) Implement area closures to reduce damage to habitat from squid-mackerel-butterfish fisheries,

(6) Increase the minimum codend mesh size requirement in the Loligo fishery,

(7) Modify the exemption of the Illex fishery from the minimum codend mesh size requirement of the Loligo fishery,

(8) Modify the Loligo incidental catch limit in the Illex fishery during Loligo fishery closures,

(9) Establish a requirement for electronic daily reporting in the directed Illex fishery,

(10) Establish gear restricted areas that are seasonally closed to small-mesh gear.

Dates and Locations of the Hearings

Monday May 14, 2007: Hilton Garden Inn Providence Airport, One Thuber Street, Warwick, RI 02886.

Tuesday, May 15, 2007: Holiday Inn Express East End, 1707 Old Country Road, Riverhead, NY 11901.

Wednesday, May 16, 2007: The Grand Hotel, 1045 Beach Ave., Cape May, NJ 08204.

Thursday, May 17, 2007: Days Inn Norfolk Airport, 5708 Northampton Blvd., Virginia Beach, VA 23455.

Special Accommodations

The meeting is physically accessible to people with disabilities. Requests for sign language interpretation or other auxiliary aids should be directed to M. Jan Bryan at the Mid-Atlantic Council Office (302) 674-2331 extension 18 at least five days prior to the meeting date.

Dated: April 24, 2007.
James P. Burgess,
Acting Director, Office of Sustainable Fisheries, National Marine Fisheries Service.

[FR Doc. E7-8197 Filed 4-27-07; 8:45 am]

BILLING CODE 3510-22-S